DEPARTMENT OF HEALTH AND HUMAN SERVICES

Health Resources and Services Administration

Part C Early Intervention Services Grant

AGENCY: Health Resources and Services Administration, HHS.

ACTION: Notice of Non-competitive Program Expansion Supplemental Award.

SUMMARY: HRSA will be providing temporary critical HIV medical care and treatment services through the Medical Center of Louisiana at New Orleans to avoid a disruption of HIV clinical care to clients in Orleans Parish in Louisiana.

SUPPLEMENTARY INFORMATION: Intended recipient of the award: Medical Center of Louisiana at New Orleans, New Orleans, Louisiana.

Amount of the award: $186,664 to ensure ongoing clinical services to the target population.

Authority: Section 2651 of the Public Health Service Act, 42 U.S.C. 300ff-51.

CFDA Number: 93.918.

Project period: July 1, 2006 to June 30, 2011. The period of supplemental support is from November 1, 2008, to June 30, 2009.

Justification for the Exception to Competition: Critical funding for HIV medical care and treatment services to clients in Orleans Parish in Louisiana will be continued through a non-competitive program expansion supplement to an existing grant award to Medical Center of Louisiana at New Orleans, New Orleans, Louisiana. This is a temporary award because the previous grant recipient serving this population notified HRSA that it would not be able to continue participating in the program after the fiscal year (FY) 2008 award was made. Medical Center of Louisiana at New Orleans is the best qualified grantee for this supplement since it serves many of the former grantee's patients and is the closest Part C Program to the former grantee. Further funding beyond June 30, 2009, for this service area will be competitively awarded during the Part C HIV Early Intervention Service (EIS) competing application process for FY 2009.

FOR FURTHER INFORMATION CONTACT: Kathleen Treat, through e-mail ktreat@hrsa.gov, or via telephone, 301-443-0493.

Dated: December 19, 2008.
Elizabeth M. Duke,
Administrator.

[FR Doc. E8-31373 Filed 1-2-09; 8:45 am]

BILLING CODE 4165-15-P